INTERNATIONAL TRADE COMMISSION

[Investigation No. 337-TA-857]

Certain Reduced Folate Nutraceutical Products and L-Methylfolate Raw Ingredients Used Therein; Commission Determination Not To Review an Initial Determination Granting Complainants' Corrected Motion for Leave To Amend the Complaint and Notice of Investigation To Add a Complainant and Change a Complainant Name

AGENCY: U.S. International Trade Commission.

ACTION: Notice.

SUMMARY: Notice is hereby given that the U.S. International Trade Commission has determined not to review an initial determination (“ID”) (Order No. 12) of the presiding administrative law judge granting complainants' corrected motion for leave to amend the complaint and notice of investigation to add a complainant and change a complainant name.

FOR FURTHER INFORMATION CONTACT: James A. Worth, Office of the General Counsel, U.S. International Trade Commission, 500 E Street SW., Washington, DC 20436, telephone (202) 205-3065. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on October 16, 2012, based on a complaint filed on September 10, 2012, on behalf of South Alabama Medical Science Foundation of Mobile, Alabama (“SASF”); Merck & Cie of Altdorf, Switzerland (“Merck”); and Pamlab LLC of Covington, Louisiana (“Pamlab”). 77 FR 63336 (October 16, 2012). The complaint alleged violations of Section 337 of the Tariff Act of 1930, as amended, 19 U.S.C. 1337, by reason of infringement of one or more of claims 37, 39, 40, 47, 66, 67, 73, 76, 78-81, 83, 84, 86-89, 91, 92, 94-97, 99, 100, 110, 111, 113, 117, and 121 of U.S. Patent No. 5,997,915; claims 22, 26, and 32-38 of U.S. Patent No. 6,673,381; claims 1, 4-6, and 15 of U.S. Patent No. 7,172,778; and claims 1-3, 5, 6, 8, 9, 11-15, and 19-22 of U.S. Patent No. 6,011,040. The Commission's notice of investigation named as respondents Gnosis SpA of Desio, Italy; Gnosis Bioresearch SA of Sant'Antonino, Switzerland; Gnosis USA Inc. of Doylestown, Pennsylvania; and Macoven Pharmaceuticals LLC of Magnolia, Texas.

On December 13, 2012, the Commission issued notice of its determination not to review an ID adding Viva Pharmaceuticals LLC as a new respondent. On February 4, 2013, the Commission issued notice of its determination not to review an ID to identify the new respondent as Viva Pharmaceuticals Inc. rather than Viva Pharmaceuticals LLC.

On May 10, 2013, complainants SASF, Merck, and Pamlab filed an unopposed corrected motion for leave to add Nestle Health Science-Pamlab Inc. (“NHS-Pamlab”) as a complainant and change Pamlab's name to Camline LLC. On June 11, 2013, the administrative law judge issued an ID (Order No. 12) granting the motion. The administrative law judge found good cause shown because NHS-Pamlab has acquired Pamlab and Pamlab was renamed following the acquisition. There were no petitions for review.

Having considered the ID and the relevant portions of the record, the Commission has determined not to review the subject ID. The complaint and notice of investigation are therefore amended to add a new complainant NHS-Pamlab and to rename Pamlab as Camline LLC.

This action is taken under the authority of section 337 of the Tariff Act of 1930, as amended (19 U.S.C. 1337), and of section 210.42(h) of the Commission's Rules of Practice and Procedure (19 CFR 210.42(h)).

By order of the Commission.
Issued: July 8, 2013.
Lisa R. Barton,
Acting Secretary to the Commission.

[FR Doc. 2013-16707 Filed 7-11-13; 8:45 am]

BILLING CODE 7020-02-P